DEPARTMENT OF COMMERCE

National Oceanic and Atmospheric Administration

[I.D. 011106D]

North Pacific Fishery Management Council; Public Meeting

AGENCY: National Marine Fisheries Service (NMFS), National Oceanic and Atmospheric Administration (NOAA), Commerce.

ACTION: Notice of public meetings.

SUMMARY: The North Pacific Fishery Management Council's (Council) Halibut Charter Guidelines Harvest Level (GHL) Committee will meet in Anchorage, AK.

DATES: The meetings will be held on February 1, 2006, from 8:30 a.m. to 4:30 p.m. and February 2, 2006, from 8:30 a.m. to 12 noon.

ADDRESSES: The meetings will be held at the North Pacific Research Board Conference Room, 1007 W. 3rd Avenue, Suite 100, Anchorage, AK 99501.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The Halibut Charter GHL Committee will review the GHL analysis and provide comments to the Council, as well as to provide recommendations to revise the GHL program with the following possible amendments: (1) link GHL to halibut abundance; (2) divide Areas 2C & 3A GHLs into sub-regions; (3) establish a moratorium on new entrants; (4) establish a valid reporting system for the halibut charter fishery.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: January 12, 2006.
Emily Menashes,
Acting Director, Office of Sustainable Fisheries, National Marine Fisheries Service.

[FR Doc. E6-451 Filed 1-17-06; 8:45 am]

BILLING CODE 3510-22-S